ARCHITECTURAL AND TRANSPORTATION BARRIERS COMPLIANCE BOARD

36 CFR Ch. XI

Unified Agenda of Federal Regulatory and Deregulatory Actions

AGENCY: Architectural and Transportation Barriers Compliance Board.

ACTION: Semiannual regulatory agenda.

SUMMARY: The Architectural and Transportation Barriers Compliance Board submits the following agenda of proposed regulatory activities which may be conducted by the Agency during the next 12 months. This regulatory agenda may be revised by the Agency during the coming months as a result of action taken by the Board.

ADDRESSES: Architectural and Transportation Barriers Compliance Board, 1331 F Street NW., Suite 1000, Washington, DC 20004-1111.

FOR FURTHER INFORMATION CONTACT: For information concerning Board regulations and proposed actions, contact James J. Raggio, General Counsel, 202 272-0040 (voice) or 202 272-0062 (TTY).

James J. Raggio,
General Counsel.

Architectural and Transportation Barriers Compliance Board—Proposed Rule Stage
Sequence No. | Title | Regulation Identifier No.
370 | Americans With Disabilities Act (ADA) Accessibility Guidelines for Passenger Vessels (Reg Plan Seq No. 74) | 3014-AA11
371 | Accessibility Guidelines for Pedestrian Facilities in the Public Right-of-Way | 3014-AA26
References in boldface appear in The Regulatory Plan in part II of this issue of the Federal Register.

ARCHITECTURAL AND TRANSPORTATION BARRIERS COMPLIANCE BOARD (ATBCB)

Proposed Rule Stage

370. Americans with Disabilities Act (ADA) Accessibility Guidelines for Passenger Vessels

Regulatory Plan: This entry is Seq. No. 74 in part II of this issue of the Federal Register.

RIN: 3014-AA11

371. Accessibility Guidelines for Pedestrian Facilities in the Public Right-of-Way

Legal Authority: 42 U.S.C. 12204, Americans With Disabilities Act; 29 U.S.C. 792, Rehabilitation Act

Abstract: This rulemaking would establish accessibility guidelines to ensure that sidewalks, pedestrian street crossings, pedestrian signals, and other facilities for pedestrian circulation and use constructed or altered in the public right-of-way by State or local governments are accessible to and usable by individuals with disabilities. The rulemaking in RIN 3014-AA41 that would establish accessibility guidelines for shared use paths that are designed for bicyclists and pedestrians and are used for transportation and recreation purposes is merged with this rulemaking. A second notice of proposed rulemaking (Second NPRM) would propose to add provisions for shared use paths to the accessibility guidelines for pedestrian facilities in the public right-of-way. The U.S. Department of Justice, U.S. Department of Transportation, and other Federal agencies are expected to adopt the accessibility guidelines for pedestrian facilities in the public right-of-way as enforceable standards in separate rulemakings for the construction and alteration of facilities covered by the Americans With Disabilities Act, section 504 of the Rehabilitation Act, and the Architectural Barriers Act.

Timetable:

Action | Date | FR Cite
Notice of Intent to Form Advisory Committee | 08/12/99 | 64 FR 43980
Notice of Appointment of Advisory Committee Members | 10/20/99 | 64 FR 56482
Availability of Draft Guidelines | 06/17/02 | 67 FR 41206
Availability of Draft Guidelines | 11/23/05 | 70 FR 70734
NPRM | 07/26/11 | 76 FR 44664
NPRM Comment Period End | 11/23/11 |
Notice Reopening Comment Period | 12/05/11 | 76 FR 75844
NPRM Comment Period End | 02/02/12 |
Second NPRM | 03/00/13 |

Regulatory Flexibility Analysis Required: Yes.

Agency Contact: James Raggio, General Counsel, Architectural and Transportation Barriers Compliance Board, 1331 F Street NW., Suite 1000, Washington, DC 20004-1111, Phone: 202 272-0040, TDD Phone: 202 272-0062, Fax: 202 272-0081, Email: raggio@access-board.gov.

RIN: 3014-AA26

[FR Doc. 2012-31501 Filed 1-7-13; 8:45 am]

BILLING CODE 8150-01-P